NATIONAL ARCHIVES AND RECORDS ADMINISTRATION

Office of Government Information Services (OGIS)

[NARA-2015-017]

Freedom of Information Act (FOIA) Advisory Committee; Meeting

AGENCY: National Archives and Records Administration (NARA).

ACTION: Notice of FOIA Advisory Committee Meeting,

SUMMARY: In accordance with the Federal Advisory Committee Act (5 U.S.C. App) and the second United States Open Government National Action Plan (NAP) released on December 5, 2013, NARA announces an upcoming Freedom of Information Act (FOIA) Advisory Committee meeting.

DATES: The meeting will be on January 27, 2015, from 10:00 a.m. to 1:00 p.m. EST. Registration for the meeting must be completed on or before 5:00 p.m. EST January 26, 2015.

ADDRESSES: National Archives and Records Administration (NARA); 700 Pennsylvania Avenue NW; Archivist's Reception Room (Room 105); Washington, DC 20408.

FOR FURTHER INFORMATION CONTACT: Christa Lemelin, Designated Federal Officer for this committee, by mail at National Archives and Records Administration; Office of Government Information Services; 8601 Adelphi Road—OGIS; College Park, MD 20740-6001, by telephone at 202-741-5773, or by email at Christa.Lemelin@nara.gov.

SUPPLEMENTARY INFORMATION: The purpose of this meeting is to discuss the FOIA issues on which the Committee is focusing its efforts: oversight and accountability, proactive disclosures, and fees. This meeting will be open to the public. However, due to space limitations and access procedures, NARA requests that individuals planning to attend register for the event via Eventbrite at http://www.eventbrite.com/e/freedom-of-information-act-foia-advisory-committee-meeting-registration-14028440443. Eventbrite registration for the meeting will go live on Tuesday, January 6, 2015, at 10:00 a.m. EST. Members of the media who wish to register, those who are unable to register via Eventbrite, and those who require special accommodations, should contact Christa Lemelin at the contact information listed above. The FOIA Advisory Committee Web page at https://ogis.archives.gov/foia-advisory-committee/meetings.htm contains an agenda and additional instructions for participation.

Dated: December 17, 2014,
Patrice Little Murray,
Committee Management Officer.

[FR Doc. 2014-30029 Filed 12-22-14; 8:45 am]

BILLING CODE 7515-01-P